DEPARTMENT OF HEALTH AND HUMAN SERVICES

National Institutes of Health

Request for Information (RFI): Inviting Comments and Suggestions on Updating the NIH Mission Statement

AGENCY: National Institutes of Health, HHS.

ACTION: Request for information.

SUMMARY: This Notice is a Request for Information (RFI) inviting feedback on a proposed update to the National Institutes of Health (NIH) mission statement. As the largest public funder of biomedical and behavioral research in the world, NIH works to turn scientific discoveries into better health for all. This RFI will inform NIH's efforts to update its mission statement to ensure that it reflects the NIH mission as accurately as possible. Review of this entire RFI notice is encouraged to ensure your response is comprehensive and to have a full understanding of how it will be used.

DATES: Comments must be received by 11:59:59 p.m. (ET) on November 24, 2023 to ensure consideration. After the public comment period has closed, the comments received will be considered in a timely manner by NIH.

ADDRESSES: All comments must be submitted electronically on the submission website at https://rfi.grants.nih.gov/?s=64caaa8bb1112e46ad0a1d52. Responses to this RFI are voluntary and may be submitted anonymously. Please do not include any personally identifiable information or any information that you do not wish to make public. Proprietary, classified, confidential, or sensitive information should not be included in your response. The Government will use the information submitted in response to this RFI at its discretion. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

We look forward to your input and hope that you will share this RFI opportunity with your colleagues.

FOR FURTHER INFORMATION CONTACT: Questions about this RFI should be directed to Lauren Brodd, Ph.D., Office of the Director, National Institutes of Health, RFIMissionStatement@nih.gov, 301-827-5152.

SUPPLEMENTARY INFORMATION: NIH is the nation's medical research agency — making important discoveries that improve health and save lives. NIH's current mission statement at https://www.nih.gov/about-nih/what-we-do/mission-goals is “to seek fundamental knowledge about the nature and behavior of living systems and the application of that knowledge to enhance health, lengthen life, and reduce illness and disability.”

In 2021, NIH established the Advisory Committee to the Director (ACD) Working Group on Diversity, Subgroup on Individuals with Disabilities (https://www.acd.od.nih.gov/working-groups/disabilitiessubgroup.html) to dedicate time and resources to identify strategies to support individuals with disabilities. The Subgroup issued a report (https://acd.od.nih.gov/documents/presentations/12092022_WGD_Disabilities_Subgroup_Report.pdf) in December 2022 that contains several recommendations, including updating the NIH mission statement. The ACD adopted the Working Group's recommendations and provided them to the NIH Director. The report stated: “One immediate action for the NIH to support disability inclusion is to remove the language of `reducing disability' from the NIH mission statement. The current mission statement could be interpreted as perpetuating ableist beliefs that disabled people are flawed and need to be `fixed'.”

To address this suggestion, NIH Leadership committed to evaluate the mission statement, particularly reviewing the inclusion of the phrase “reduce [. . .] disability”, and to update it to better reflect the current and future vision for the agency. Following discussions among NIH Leadership and with NIH subject matter experts, a proposed revised mission statement was developed.

Information Requested

This RFI invites input from interest groups throughout the scientific research, advocacy, and clinical practice communities, those employed by NIH or at institutions receiving NIH support, and the public, on a proposed revised mission statement. The bolded language reflects differences between the current and proposed mission statements.

• Current mission statement: “To seek fundamental knowledge about the nature and behavior of living systems and the application of that knowledge to enhance health, lengthen life, and reduce illness and disability.”

• Proposed revised mission statement: “To seek fundamental knowledge about the nature and behavior of living systems and to apply that knowledge to optimize health and prevent or reduce illness for all people.”

Input sought about the proposed revised mission statement includes, but is not limited to, the following:

• Feedback on whether the proposed new mission statement reflects the goals and objectives as outlined in the NIH-Wide Strategic Plan for Fiscal Years 2021-2025 (https://www.nih.gov/sites/default/files/about-nih/strategic-plan-fy2021-2025-508.pdf).

• Suggestions for specific language that could be added to the proposed mission statement and why.

• Feedback on any specific language that could be removed from the proposed mission statement and why.

NIH encourages organizations (e.g., patient advocacy groups, professional societies) to submit a single response reflective of the views of the organization or its membership.

Dated: August 29, 2023.
Tara A. Schwetz,
Acting Principal Deputy Director, National Institutes of Health.

[FR Doc. 2023-18989 Filed 8-31-23; 8:45 am]

BILLING CODE 4140-01-P